DEPARTMENT OF THE INTERIOR

Bureau of Land Management

[LLOR936000.L14400000.ET0000.15XL1109AF; HAG 15-0074; OR-67640]

Public Land Order No. 7842; Withdrawal of Public Lands for the New River Area of Critical Environmental Concern; Oregon

AGENCY: Bureau of Land Management, Interior.

ACTION: Public Land Order.

SUMMARY: This order withdraws 1,140.82 acres of public lands from location and entry under the United States mining laws, but not from leasing under the mineral or geothermal leasing laws, for a period of 20 years to protect the geological, cultural, botanical, recreational, and biological resources within the New River Area of Critical Environmental Concern. The withdrawal will protect a $2.8 million investment for facilities and roads.

DATES: Effective Date: October 7, 2015.

FOR FURTHER INFORMATION CONTACT: Michael L. Barnes, BLM Oregon/Washington State Office, 503-808-6155, or Paul J. Rodriguez, BLM Coos Bay District Office, 541-751-4462. Persons who use a telecommunications device for the deaf (TDD) may call the Federal Information Relay Service (FIRS) at 1-800-877-8339 to reach either of the contacts stated above. The FIRS is available 24 hours a day, 7 days a week, to leave a message or question with either of the above individuals. You will receive a reply during normal business hours.

SUPPLEMENTARY INFORMATION: This order replaces expired Public Land Order Nos. 6967 (58 FR 25948 (1993)) and 7170 (60 FR 57192 (1995)).

Order

By virtue of the authority vested in the Secretary of the Interior by Section 204 of the Federal Land Policy and Management Act of 1976, 43 U.S.C. 1714, it is ordered as follows:

1. Subject to valid existing rights, the following described public lands are hereby withdrawn from location and entry under the United States mining laws, but not from leasing under the mineral or geothermal leasing laws, for a period of 20 years to protect the geological, cultural, botanical, recreational, and biological resources within the New River Area of Critical Environmental Concern, including a Federal investment of $2.8 million for facilities and roads on the lands:

Willamette Meridian

T. 29 S., R. 15 W.,

Sec. 35, N½NE¼NE¼;

Sec. 36, lot 1, and NW¼NW¼; SAVING AND EXCEPTING that part subject to the right-of-way of Berg Road.

T. 30 S., R. 15 W.,

Sec. 2, W½SW¼, and a portion of lots 3 and 4 described as follows: Beginning at a point on the north line of said sec. 2, said point being 967.37 ft. westerly of the north quarter corner of said sec. 2; thence S. 9°29′14″ W., 192.13 ft.; thence S. 30°54′ 40″ W., 270.93 ft.; thence N. 83°13′00″ W., 594.73 ft.; thence S. 28° 19′14″ W., 190.01 ft.; thence S. 0°19′14″ W., 422 ft. more or less to the north bank of Four Mile Creek; thence running northwesterly along the north bank of said creek to the north line of said sec. 2; thence easterly along said north line to a point, 1230 ft. more or less to the point of beginning;

Sec. 3, lots 3 and 4;

Sec. 10, lots 1 to 4, inclusive, E½NE¼, and SW¼SE¼;

Sec. 11, lots 3 to 7, inclusive, excluding an easement 20 feet wide along northerly and easterly boundary of lots 5 and 7;

Sec. 15, lots 1 to 4, inclusive, and NW¼NE¼;

Sec. 21, lots 1 and 2;

Sec. 22, lots 1 and 2, and NW¼SW¼;

Sec. 28, lots 2, 3, and 4, and SE¼NE¼;

Sec. 32, lot 1;

Sec. 33, lot 2.

T. 31 S., R. 15 W.,

Sec. 7, lot 1;

Sec. 8, lots 3, 4, 7, and 8.

The areas described aggregate 1,140.82 acres in Coos and Curry Counties.

2. The withdrawal made by this order does not alter the applicability of the public land laws other than the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: September 20, 2015.
Janice M. Schneider,
Assistant Secretary—Land and Minerals Management.

[FR Doc. 2015-25541 Filed 10-6-15; 8:45 am]

BILLING CODE 4310-33-P